DEPARTMENT OF DEFENSE

GENERAL SERVICES ADMINISTRATION

NATIONAL AERONAUTICS AND SPACE ADMINISTRATION

48 CFR Parts 4 and 32

[FAC 2005-76; Item IV; Docket No. 2014-0053; Sequence No. 2]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective: July 25, 2014.

FOR FURTHER INFORMATION CONTACT: The Regulatory Secretariat Division (MVCB), 1800 F Street NW., 2nd Floor, Washington, DC 20405, 202-501-4755, for information pertaining to status or publication schedules. Please cite FAC 2005-76, Technical Amendments.

SUPPLEMENTARY INFORMATION: In order to update certain elements in 48 CFR parts 4 and 32 this document makes editorial changes to the FAR.

List of Subject in 48 CFR parts 4 and 32

Government procurement.

Dated: July 18, 2014.
William Clark,
Acting Director, Office of Government-Wide Acquisition Policy, Office of Acquisition Policy, Office of Government-Wide Policy.

Therefore, DoD, GSA, and NASA amend 48 CFR parts 4 and 32 as set forth below:

1. The authority citation for 48 CFR parts 4 and 32 continues to read as follows:

Authority: 40 U.S.C. 121(c); 10 U.S.C. chapter 137; and 51 U.S.C. 20113.

PART 4—ADMINISTRATIVE MATTERS

4.605 [Amended]

2. Amend section 4.605 by removing from paragraph (c)(2) introductory text “Integrated Acquisition Environment” and adding “Integrated Award Environment” in its place.

4.1601 [Amended]

3. Amend section 4.1601 by removing from paragraph (b) “Integrated Acquisition Environment” and adding “Integrated Award Environment” in its place.

PART 32—CONTRACT FINANCING

32.009-1 [Amended]

4. Amend section 32.009-1 by removing “OMB Memorandum M-13-15,” and adding “OMB Memoranda M-13-15 and M-14-10, both titled” in its place.

[FR Doc. 2014-17501 Filed 7-24-14; 8:45 am]

BILLING CODE 6820-EP-P